DEPARTMENT OF ENERGY

Federal Energy Regulatory Commission

Combined Notice of Filings # 1

January 4, 2008.

Take notice that the Commission received the following exempt wholesale generator filings:

Docket Numbers: EG08-29-000.

Applicants: Bicent (California) Malburg LLC.

Description: Bicent (California) Malburg LLC submits a notice of self-certification as a exempt wholesale generator.

Filed Date: 12/31/2007.

Accession Number: 20080103-0097.

Comment Date: 5 p.m. Eastern Time on Tuesday, January 22, 2008.

Take notice that the Commission received the following electric rate filings:

Docket Numbers: ER00-2173-006. ER00-3219-006; ER01-1300-007.

Applicants: Northern Indiana Public Service Company; EnergyUSA-TPC Corp.; Whiting Clean Energy, Inc.;

Description: Northern Indiana Public Service Company, Whiting Clean Energy, Inc et al. submit Original Sheet 1 et al. to FERC Electric Tariff, Original Volume 3 in compliance with Commission's order issued 11/30/07.

Filed Date: 12/28/2007.

Accession Number: 20080102-0091.

Comment Date: 5 p.m. Eastern Time on Friday, January 18, 2008.

Docket Numbers: ER03-329-008; ER07-597-003.

Applicants: NorthWestern Corporation; Montana Generation, LLC.

Description: NorthWestern Corp and Montana Generation, LLC submits a non-material change in status, in compliance with the reporting requirements adopted in Order 652.

Filed Date: 12/31/2007.

Accession Number: 20080103-0094.

Comment Date: 5 p.m. Eastern Time on Tuesday, January 22, 2008.

Docket Numbers: ER07-1250-002.

Applicants: PowerGrid Systems, Inc.

Description: PowerGrid Systems, Inc submits a transmittal letter regarding information requested by the Commission.

Filed Date: 12/21/2007.

Accession Number: 20071221-5149.

Comment Date: 5 p.m. Eastern Time on Friday, January 11, 2008.

Docket Numbers: ER08-360-001.

Applicants: Duke Energy Carolinas, LLC.

Description: Duke Energy Carolinas, LLC submits an errata to its 12/21/07 filing of an Amended Rate Schedule 10A.

Filed Date: 12/31/2007.

Accession Number: 20080103-0093.

Comment Date: 5 p.m. Eastern Time on Tuesday, January 22, 2008.

Docket Numbers: ER08-371-001.

Applicants: Cooperative Energy Incorporated.

Description: Cooperative Energy Incorporated submits its proposed protective order that was omitted from the 12/21/07 “Petition for Authority to Sell Power at Market-Based Rates etc.

Filed Date: 12/31/2007.

Accession Number: 20080103-0092.

Comment Date: 5 p.m. Eastern Time on Tuesday, January 22, 2008.

Docket Numbers: ER08-385-000.

Applicants: Pacific Gas and Electric Company.

Description: Pacific Gas and Electric Co. submits the Agreements for Wholesale Distribution Service and Interconnection with McAllister Ranch Irrigation District.

Filed Date: 12/28/2007.

Accession Number: 20071231-0141.

Comment Date: 5 p.m. Eastern Time on Friday, January 18, 2008.

Docket Numbers: ER08-386-000.

Applicants: Potomac-Appalachian Transmission Highline, LLC.

Description: Potomac-Appalachian Transmission Highline, LLC et al., submits Seventh Revised Sheet 26A et al. to FERC Electric Tariff, Sixth Revised Volume 1, effective 3/1/08.

Filed Date: 12/28/2007.

Accession Number: 20080102-0086.

Comment Date: 5 p.m. Eastern Time on Friday, January 18, 2008.

Docket Numbers: ER08-389-000.

Applicants: San Diego Gas & Electric Company.

Description: San Diego Gas & Electric Co. submits Third Revised Sheet 36 et al. to FERC Electric Tariff, Original Volume 11, to be effective 1/1/08.

Filed Date: 12/28/2007.

Accession Number: 20071231-0142.

Comment Date: 5 p.m. Eastern Time on Friday, January 18, 2008.

Docket Numbers: ER08-393-000.

Applicants: PJM Interconnection, L.L.C.

Description: PJM Interconnection LLC submits an executed interconnection service agreement & an executed interconnection construction service agreement with James River Cogeneration Company et al.

Filed Date: 12/28/2007.

Accession Number: 20080103-0176.

Comment Date: 5 p.m. Eastern Time on Thursday, January 10, 2008.

Docket Numbers: ER08-398-000.

Applicants: Pacific Gas and Electric Company.

Description: Pacific Gas and Electric Company submits Service Agreements for Wholesale Distribution Service and three Interconnection points and an Interconnection Agreement with Power and Water Resources Pooling Authority.

Filed Date: 12/31/2007.

Accession Number: 20080102-0090.

Comment Date: 5 p.m. Eastern Time on Tuesday, January 22, 2008.

Docket Numbers: ER08-402-000.

Applicants: San Diego Gas & Electric Company.

Description: San Diego Gas and Electric Company submits change in rates for the Transmission Revenue Balancing Account Adjustment and its Transmission Access Charge Balancing Account Adjustment.

Filed Date: 12/31/2007.

Accession Number: 20080102-0118.

Comment Date: 5 p.m. Eastern Time on Tuesday, January 22, 2008.

Docket Numbers: ER08-403-000.

Applicants: Duke Energy Kentucky, Inc.

Description: Duke Energy Kentucky, Inc submits an unexecuted Wholesale Distribution Service Agreement with the City of Williamstown, Kentucky.

Filed Date: 12/31/2007.

Accession Number: 20080103-0095.

Comment Date: 5 p.m. Eastern Time on Tuesday, January 22, 2008.

Docket Numbers: ER08-404-000.

Applicants: Midwest Independent Transmission System.

Description: Midwest Independent Transmission System Operator, Inc. submits proposed revisions to its Open Access Transmission and Energy Markets Tariff.

Filed Date: 12/31/2007.

Accession Number: 20080103-0096.

Comment Date: 5 p.m. Eastern Time on Tuesday, January 22, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-409 Filed 1-11-08; 8:45 am]

BILLING CODE 6717-01-P